DEPARTMENT OF THE INTERIOR

Indian Arts and Craft Board

Proposed Renewal of Information Collection for Source Directory Publication; Comment Request

AGENCY: Indian Arts and Crafts Board, Interior.

ACTION: Notice.

SUMMARY: The Indian Arts and Crafts Board collects information to identify and revise listings for the Source Directory of American Indian and Alaska native owned and operated arts and crafts businesses. Comments on renewal of this collection are requested from the public. After the public review, we will submit the information collection to OMB-OIRA for review and re-approval as required by the Paperwork Reduction Act of 1995.

DATES: Submit comments on or before May 3, 2005.

ADDRESSES: Send your written comments to Attention: Indian Arts and Crafts Board, U.S. Department of the Interior, 1849 C Street, NW., MS-2058 MIB, Washington, DC 20240. If you wish to submit comments by facsimile, the number is (202) 208-5196, or you may send them by e-mail to “iacb@ios.doi.gov.” Please mention that your comments concern the Source Directory.

FOR FURTHER INFORMATION CONTACT: Requests for additional information or copies of the Source Directory application or renewal forms, i.e., the information collection instruments, should be directed to Meridith Z. Stanton, Director, Indian Arts and Crafts Board, 1849 C Street, NW., MS 2058 MIB, Washington, DC 20240. You may also call (202) 208-3773 (not a toll free call), or send you request by e-mail to “iacb@ios.doi.gov” or by facsimile to (202) 208-5196.

SUPPLEMENTARY INFORMATION:

I. Abstract

The Source Directory of American Indian and Alaska Native owned and operated arts and craft enterprises is a program of the Indian Arts and Crafts Board that promotes American Indian and Alaska Native arts and crafts. The Source Directory is a forty-one page full-color illustrated publication featuring fine examples of contemporary American Indian and Alaska Native art from the major cultural areas in the United States. The Source Directory also comes with a listing of American Indian and Alaska native owned and operated arts and crafts businesses. This listing is included as an insert in the back cover of the Source Directory.

The service of being listed in this publication is provided free-of-charge to members of federally recognized tribes. Businesses listed in the Source Directory include American Indian and Alaska Native artists and craftspeople, cooperatives, tribal arts and crafts enterprises, businesses privately-owned-and-operated by American Indian and Alaska native artists, designers, and craftspeople, and businesses privately owned-and-operated by American Indian and Alaska Native merchants who retail and/or wholesale authentic Indian and Alaska native arts and crafts. Business listings in the Source Directory are arranged alphabetically by State. The Source Directory may be ordered from either the Oklahoma Arts and Crafts Cooperative, P.O. Box 966, Anadarko, Oklahoma 73005 or the Sioux Indian Museum, 222 New York Street, Rapid City, South Dakota 57701, for a cost of $11.50 which includes shipping and handling. The business listings are also available on the Board's Web site located at http://www.iacb.doi.gov.

The Director of the Board uses this information to determine whether an individual or business applying to be listed in the Source Directory meets the requirements for listing. The approved application will be printed in the Source Directory. The Source Directory is updated annually to include new businesses and to update existing information.

II. Method of Collection

To be listed in the Source Directory, interested individuals and businesses must submit: (1) A letter requesting an entry in the Source Directory, (2) a draft of their business information in a format like the other Source Directory listings, (3) a copy of the individual's or business owner's tribal enrollment card; and for businesses, proof that the business is organized under tribal, state, or federal law; and (4) a certification that the business is an American Indian or Alaska Native owned and operated cooperative, tribal enterprise, or nonprofit organization, or that the owner of the enterprise is an enrolled member of a federally recognized American Indian tribe or Alaska Native group.

The following information is collected in a single-page form that is distributed by the Indian Arts and Crafts Board. Although listing in the Source Directory is voluntary, submission of this information is required for inclusion in the Directory.

Information collected | Reason for collection
Name of business, mailing address, city, zip code (highway location, Indian reservation, etc.), telephone number ad e-mail address | To identify the business to be listed in the Source Directory, and method of contact.
Type of organization | To identify the nature of the business entity.
Hours/season of operation | To identify those days and times when customers may contact the business.
Internet website address | To identify whether the business advertises and/or sells inventory online.
Main categories of products | To identify the products that the business produces.
Retail or wholesale products | To identify whether the business is a retail or wholesale business.
Mail order and/or catalog | To identify whether the business has a mail order and/or catalog.
Price list information, if applicable | To identify the cost of the listed products.
For a cooperative or tribal enterprise, a copy of documents showing that the organization is formally organized under tribal, state or federal law | To determine whether the business meets the eligibility requirement for listing in the Source Directory.
Signed certification that the business is an American Indian or Alaska Native owned and operated cooperative, tribal enterprise, or nonprofit organization | To obtain verification that the business is an American Indian or Alaska Native owned and operated business.
Copy of the business owner's tribal enrollment card | To determine whether the business owner is an enrolled member of a federally recognized tribe.
Signed certification that the owner of the business is a member of a federally recognized tribe | To obtain verification that the business owner is an enrolled member of a federally recognized tribe.

The proposed use of the information: The information collected will be used by the Indian Arts and Craft Board:

(a) To determine whether an individual or business meets the eligibility requirements for inclusion in the Source Directory, i.e., whether they are either an American Indian or Alaska Native owned and operated cooperative, tribal enterprise, or nonprofit organization, or an enrolled member of a federally recognized American Indian tribe or Alaska Native group;

(b) To identify the applicant's business information to be printed in the Source Directory.

III. Data

(1) Title: Department of the Interior, Indian Arts and Crafts Board, Source Directory of American Indian and Alaska Native owned and operated arts and crafts businesses.

OMB Control Number: 1085-0001.

Type of Review: Renewal of an existing collection.

Affected Entities: Business or other for-profit; tribes.

Estimated annual number of respondents: 100.

Frequency of response: Annual.

(2) Annual reporting and recordkeeping burden:

Total annual reporting per respondent: 15 minutes.

Total annual reporting: 25 hours.

(3) Description of the need and use of the information: Submission of this information is required to receive the benefit of being listed in the Indian Arts and Crafts Board Source Directory. The information is collected to determine the applicant's eligibility for the service and to obtain the applicant's name and business address to be printed in the publication.

IV. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose, or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection in Room 2058 of the Main Interior Building, 1849 C Street, NW., Washington, DC from 9 a.m. until 3 p.m., Monday through Friday, excluding legal holidays. A valid picture identification is required for entry into the Department of the Interior. The comments, with names and addresses, will be available for public view during regular business hours. If you wish us to withhold your personal information, you must prominently taste at the beginning of your comment what personal information you want us to withhold. We will honor your request to the extent allowable by law.

An agency may not conduct or sponsor, and a person is not required to respond to, a collection of information unless it displays a currently valid Office of Management and Budget control number.

Dated: March 24, 2005.
Meridith Z. Stanton,
Director, Indian Arts and Crafts Board.

[FR Doc. 05-6157 Filed 3-28-05; 8:45 am]

BILLING CODE 4310-4H-M